DEPARTMENT OF HEALTH AND HUMAN SERVICES

National Institutes of Health

Government-Owned Inventions; Availability for Licensing

AGENCY: National Institutes of Health, Public Health Service, HHS.

ACTION: Notice.

SUMMARY: The inventions listed below are owned by an agency of the U.S. Government and are available for licensing in the U.S. in accordance with 35 U.S.C. 207 to achieve expeditious commercialization of results of federally-funded research and development. Foreign patent applications are filed on selected inventions to extend market coverage for companies and may also be available for licensing.

ADDRESSES: Licensing information and copies of the U.S. patent applications listed below may be obtained by writing to the indicated licensing contact at the Office of Technology Transfer, National Institutes of Health, 6011 Executive Boulevard, Suite 325, Rockville, Maryland 20852-3804; telephone: 301/496-7057; fax: 301/402-0220. A signed Confidential Disclosure Agreement will be required to receive copies of the patent applications.

Multiple Donor Tissue-Derived Large IgM VH-Based Fab Human Antibody Library

Description of Technology: Available for licensing as a biological material for either internal use or commercial distribution is a human Fab immunoglobulin/antibody fragment phage display library. The library contains 10 ¹⁰ Fabs derived from the peripheral blood of ten (10) healthy human donors. The high quality of the library was demonstrated in the successful selection of high affinity antibodies specific for Hendra and Nipah viruses; however, the library is useful for selecting a variety of antigen specific immunoglobulin/antibody Fab fragments especially for cancer or viruses.

Applications: Antibody discovery—Diagnostics, Therapeutics, Research Reagents.

Advantages and Benefits: High affinity multi-purpose antibodies.

Inventors: Dimiter S. Dimitrov (NCI) et al.

Publications:

1. Zhang et al. Selection of a novel gp41-specific HIV-1 neutralizing human antibody by competitive antigen panning. J Immunol Methods. 2006 Dec 20; 317(1-2):21-30. Epub 2006 Oct 16.

2. Zhu et al. Potent neutralization of Hendra and Nipah viruses by human monoclonal antibodies. J Virol. 2006 Jan;80(2):891-899.

3. Zhang et al. Human monoclonal antibodies to the S glycoprotein and related proteins as potential therapeutics for SARS. Curr Opin Mol Ther. 2005 Apr;7(2):151-156. Review.

Patent Status: HHS Reference No. E-188-2007/0—Research Tool. Patent protection is not being sought for this technology.

Licensing Status: Available for non-exclusive licensing as biological material.

Licensing Contact: Michael Shmilovich, Esq.; 301/435-5019; shmilovm@mail.nih.gov.

Collaborative Research Opportunity: The NCI-Frederick is seeking statements of capability or interest from parties interested in collaborative research to further develop, evaluate, or commercialize therapeutic, diagnostic or research reagent antibodies. Please contact Thomas Stackhouse at stackhot@mail.nih.gov or 301-846-5465 for more information.

Optical Slice Motion Tracker

Description of Technology: Available for licensing and commercial development is an apparatus that adjusts the focal plane of a microscope in order to track plane motion of a sample. The apparatus includes a motor that can change the focal plane by moving the objective of the microscope and a computer that reads image data from the microscope photomultiplier tube (PMT). The apparatus uses time between images to perform a navigator function comprising quickly scanning many nearby focal planes with a minimum field of view and utilizing pattern matching to calculate an offset distance to adjust the focal plane. The apparatus permits imaging of moving structures, such as living tissue, over time by compensating for motion in the direction of the focal plane. The use of navigator movement to track an optically selected slice can be implemented in any of various research or medical devices.

Applications: Microscopy; Cell biology.

Development Status: Early-stage; Prototype.

Inventors: James L. Schroeder (NHLBI), Robert S. Balaban (NHLBI), Thomas J. Pohida (CIT), John W. Kakareka (CIT), Randall Pursley (CIT).

Patent Status: U.S. Provisional Application No. 60/904,683 filed 02 Mar 2007 (HHS Reference No. E-114-2007/0-US-01). The issued and pending patent rights are solely owned by the United States Government.

Licensing Status: Licensing on a non-exclusive basis and exclusive to qualified applicants whose application for licensure complies with 37 CFR 404.

Licensing Contact: Michael A. Shmilovich, Esq.; 301/435-5019; shmilovm@mail.nih.gov.

Collaborative Research Opportunity: The NHLBI is seeking statements of capability or interest from parties interested in collaborative research to further develop, evaluate, or commercialize the optical slice motion tracker. Please contact Lili Portilla at 301-594-4273 or via e-mail at Lilip@nih.gov for more information.

A Fundus Photo-Stimulation System and Method

Description of Technology: Available for licensing and commercial development is an optical system which permits targeted photo-stimulation of the retina by positioning the stimulus location under visual guidance through a fundus camera. The system is designed to elicit, under direct infra-red visual control of stimulus size and position in the retina, electroretinograms (ERGs) in response to photo-stimulation from selected regions of the retina, as well as to present small light stimuli to a selected area to explore visual sensitivity properties. For example, the detected ERGs can be the basis for diagnosing or characterizing patient retina with early stage retinal disease versus healthy retina from the opposite eye. The system can be mounted on commercially available fundus cameras that have infra-red capabilities (or would accept infra-red bandpass filtering of their retinal illumination output) and will accept a near IR CCD camera connected to a TV mounted on the photographic-camera port.

The optical system can comprise a targeting light path originating from a deep red laser and a stimulus light path originating from a Xenon strobe lamp. Both light paths are brought into collinear alignment by a beam splitter. The light paths are transmitted to the eye through an adjustable turning mirror and a focusing lens. A beam splitter in front of the fundus camera objective lens merges the optical path of the fundus camera with that of the targeting optical path and the stimulus light path. The merged beams are brought to a focus at or close to the lens of the eye. A movable aperture is interposed on the collinear beams and imaged on the retina such that its lateral position and size can be adjusted by the operator to select the retinal area to be photo-stimulated. This arrangement ensures that the stimulating light flashes illuminate the same field as was selected using the deep red targeting laser. This system permits projection of repeatable visible-light flashes with variable size and location onto the retina.

Applications: Diagnosis of retinal disease; Electroretinograms.

Development Status: Early-stage; Prototype available.

Inventors: Paul Smith (ORS), Edward Wellner (ORS), Francisco de Monasterio (NEI).

Patent Status: U.S. Provisional Application No. 60/935,107 filed 26 Jul 2007 (HHS Reference No. E-279-2006/0-US-01). The pending patent rights are solely owned by the United States Government.

Licensing Status: Available for licensing and commercialization. Non-exclusive rights are available. Exclusive rights may be available to qualified applicants and are subject to the provisions set forth in 37 CFR 404.7.

Licensing Contact: Michael A. Shmilovich, Esq.; 301/435-5019; shmilovm@mail.nih.gov.

Collaborative Research Opportunity: The Laboratory of Bioengineering and Physical Science, NIBIB is seeking statements of capability or interest from parties interested in collaborative research to further develop, evaluate, or commercialize the Fundus Photo-Stimulation System and Method. Please contact Dr. Paul Smith at smithpa@mail.nih.gov for more information.

Dated: October 10, 2007.
Steven M. Ferguson,
Director, Division of Technology Development and Transfer, Office of Technology Transfer, National Institutes of Health.

[FR Doc. E7-20517 Filed 10-16-07; 8:45 am]

BILLING CODE 4140-01-P